SECURITIES AND EXCHANGE COMMISSION

Sunshine Act Meeting

TIME AND DATE: Notice is hereby given, pursuant to the provisions of the Government in the Sunshine Act, Public Law 94-409, that the Securities and Exchange Commission will hold an Open Meeting on June 28, 2018 at 10 a.m.

PLACE: The meeting will be held in the Auditorium, Room LL-002 at the Commission's headquarters, 100 F Street NE, Washington, DC 20549.

STATUS: This meeting will begin at 10 a.m. (ET) and will be open to the public. Seating will be on a first-come, first-served basis. Visitors will be subject to security checks. The meeting will be webcast on the Commission's website at http://www.sec.gov.

MATTERS TO BE CONSIDERED: The subject matters of the Open Meeting will be the Commission's consideration of:

• Whether to adopt amendments to the definition of “smaller reporting company” and other rules and forms in light of the new definition.

• whether to adopt amendments to rules and forms to require the use of the Inline eXtensible Business Reporting Language (XBRL) format for the submission of operating company financial statement information and fund risk/return summary information and related changes.

• whether to propose rule 6c-11 under the Investment Company Act of 1940 that would permit exchange-traded funds that satisfy certain conditions to operate without first obtaining an exemptive order from the Commission, as well as related form amendments.

• whether to adopt amendments to Form N-PORT and Form N-1A related to disclosures of liquidity risk management for open end management investment companies.

• whether to propose amendments to the Commission's existing rules that govern the whistleblower award program.

• whether the Commission should enter into a revised memorandum of understanding with the Commodity Futures Trading Commission that would update and supersede the existing regulatory coordination memorandum of understanding between the two agencies.

At times, changes in Commission priorities require alterations in the scheduling of meeting items.

CONTACT PERSON FOR MORE INFORMATION: For further information and to ascertain what, if any, matters have been added, deleted or postponed, please contact the Office of the Secretary at (202) 551-5400.

Dated: June 20, 2018.
Brent J. Fields,
Secretary.

[FR Doc. 2018-13623 Filed 6-21-18; 11:15 am]

BILLING CODE 8011-01-P